DEPARTMENT OF HOMELAND SECURITY

Coast Guard

[Docket No. USCG-2023-0249]

National Navigation Safety Advisory Committee; June 2023 Virtual Meeting

AGENCY: Coast Guard, Department of Homeland Security.

ACTION: Notice of federal advisory committee virtual meeting.

SUMMARY: The National Navigation Safety Advisory Committee (Committee) will meet virtually to review and discuss matters relating to maritime collisions, rammings, and groundings; Inland Rules of the Road; International Rules of the Road; navigation regulations and equipment; routing measures; marine information; and aids to navigation systems. The virtual meeting will be open to the public.

DATES:

Meeting: The Committee will meet virtually on Friday, June 23, 2023, from 1 p.m. until 2:30 p.m. Eastern Daylight Time (EDT). The virtual meeting may close early if all business is finished.

Comments and supporting documentation: To ensure your comments are received by Committee members before the virtual meeting, submit your written comments no later than June 9, 2023.

ADDRESSES: To join the virtual meeting or to request special accommodations, contact the individual listed in the FOR FURTHER INFORMATION CONTACT section no later than 1 p.m. EDT on June 9, 2023, to obtain the needed information. The number of virtual lines are limited and will be available on a first-come, first-served basis.

Pre-registration information: Pre-registration is required for attending the virtual meeting. You must request attendance by contacting the individual listed in the FOR FURTHER INFORMATION CONTACT section of this notice. You will receive a response with attendance instructions.

The National Navigation Safety Advisory Committee is committed to ensuring all participants have equal access regardless of disability status. If you require reasonable accommodations due to a disability to fully participate, please email Mr. George Detweiler at George.H.Detweiler@uscg.mil or call (202) 372-1566 as soon as possible.

Instructions: You are free to submit comments at any time, including orally at the meeting as time permits, but if you want Committee members to review your comment before the meeting, please submit your comments no later than June 9, 2023. We are particularly interested in comments on the topics in the “Agenda” section below. We encourage you to submit comments through Federal eRulemaking Portal at https://www.regulations.gov. If your material cannot be submitted using https://www.regulations.gov, call or email the individual in the FOR FURTHER INFORMATION CONTACT section of this document for alternate instructions. You must include the docket number [USCG-2023-0249]. Comments received will be posted without alteration at https://www.regulations.gov including any personal information provided. You may wish to view the Privacy and Security Notice and the User Notice, which are both available on the homepage of https://www.regulations.gov and DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov, and can be viewed by following that website's instructions. Additionally, if you go to the online docket and sign-up for email alerts, you will be notified when comments are posted.

FOR FURTHER INFORMATION CONTACT: Mr. George Detweiler, Alternate Designated Federal Officer of the National Maritime Security Advisory Committee, 2703 Martin Luther King Jr. Avenue SE, Washington, DC 20593, Stop 7581, Washington, DC 20593-7581; telephone 202-372-1566, or email at George.H.Detweiler@uscg.mil.

SUPPLEMENTARY INFORMATION: Notice of this meeting is in compliance with the Federal Advisory Committee Act, (Pub. L. 117-286, 5 U.S.C., ch. 10). The Committee was established on December 4, 2018, by Section 601 of the Frank LoBiondo Coast Guard Authorization Act of 2018, Public Law 115-282, 132 Stat. 4190, and is codified in 46 U.S.C. 15107. The Committee operates under the provisions of the Federal Advisory Committee Act and 46 U.S.C. 15109. The National Navigation Safety Advisory Committee provides advice, consults with, and makes recommendations to the Secretary of Homeland Security, via the Commandant of the Coast Guard, on matters relating to maritime collisions, rammings, and groundings; Inland Rules of the Road; International Rules of the Road; navigation regulations and equipment; routing measures; marine information; and aids to navigation systems.

Agenda

The agenda for the National Maritime Security Advisory Committee meeting is as follows:

Friday, June 23, 2023

(1) Call to Order.

(2) Introduction.

(3) Designated Federal Official Remarks.

(4) Roll call of Committee members and determination of quorum.

(5) Remarks from Committee Leadership.

(6) Discussion of Tasks. The Committee will provide a final report of recommendations on the following task:

a. Task Statement 23-01: Review of NVIC 01-19 (CH 1) which incorporated recommendations provided by Committee Resolution 21-02—Navigation Safety in and around Offshore Renewable Energy Installations

(7) Public Comment Period.

(8) Adjournment of Meeting.

A copy of all meeting documentation will be available by June 9, 2023, by going to the Coast Guard Homeport website, https://homeport.uscg.mil/, selecting the Missions tab, and navigating to the Federal Advisory Committees section. Alternatively, you may contact Mr. George Detweiler as noted in the FOR FURTHER INFORMATION section above.

There will be a public comment period at the end of meeting. Speakers are requested to limit their comments to 3 minutes. Please note that the public comment period may end before the period allotted, following the last call for comments.

Please contact the individual listed in the FOR FURTHER INFORMATION CONTACT section above to register as a speaker.

Dated: May 19, 2023.
Steven E. Ramassini,
Captain, U.S. Coast Guard, Acting Director, Marine Transportation System.

[FR Doc. 2023-11029 Filed 5-23-23; 8:45 am]

BILLING CODE 9110-04-P